NATIONAL COUNCIL ON DISABILITY

Youth Advisory Committee Meetings (Teleconferences)

Times and Dates:

September 28, 2005, 2:30 p.m. Eastern.

November 18, 2005, 3 p.m. Eastern.

January 20, 2006, 3 p.m. Eastern.

April 21, 2006, 3 p.m. Eastern.

July 21, 2006, 3 p.m. Eastern.

September 15, 2006, 3 p.m. Eastern.

Place: National Council on Disability, 1331 F Street, NW., Suite 850, Washington, DC.

Agency: National Council on Disability (NCD).

Status: All parts of these meetings will be open to the public. Those interested in participating should contact the appropriate staff member listed below.

Agenda: Roll call, announcements, reports, new business, adjournment.

Contact Person for More Information: Geraldine Drake Hawkins, Ph.D., Program Analyst, National Council on Disability, 1331 F Street, NW., Suite 850, Washington, DC 20004; 202-272-2004 (voice), 202-272-2074 (TTY), 202-272-2022 (fax), ghawkins@ncd.gov (e-mail).

Youth Advisory Committee Mission

The purpose of NCD's Youth Advisory Committee is to provide input into NCD activities consistent with the values and goals of the Americans with Disabilities Act.

Dated: August 17, 2005.
Ethel D. Briggs,
Executive Director.

[FR Doc. 05-19069 Filed 9-22-05; 8:45 am]

BILLING CODE 6820-MA-P